DEPARTMENT OF COMMERCE

National Oceanic and Atmospheric Administration

[I.D. 033006B]

Atlantic Highly Migratory Species; Scientific Research Permit

AGENCY: National Marine Fisheries Service (NMFS), National Oceanic and Atmospheric Administration (NOAA), Commerce.

ACTION: Notice; request for a scientific research permit; request for comments.

SUMMARY: NMFS announces the receipt of a request for a scientific research permit (SRP) to survey and determine abundance and distribution of pelagic sharks, inject pelagic sharks with tetracycline for age validation studies, track the survival and movement of Highly Migratory Species (HMS) with conventional and satellite pop-up tags in the Atlantic Ocean, and collect biological samples. While this research will occur in waters from the Gulf of Maine to Delaware, NMFS invites comments from interested parties on this SRP request with regards to tagging and biological sampling of HMS (sharks, blue and white marlin, and bluefin and yellowfin tuna) in the Northeastern United States closed area.

DATES: Written comments on the application for a scientific research permit must be received by 5 p.m. on May 18, 2006.

ADDRESSES: You may submit comments by any of the following methods:

• Email: SF1.033006B@noaa.gov. Include in the subject line the following identifier: I.D. 033006B.

• Mail: Margo Schulze-Haugen, Chief, Highly Migratory Species Management Division (F/SF1), NMFS, 1315 East-West Highway, Silver Spring, MD 20910. Please mark the outside of the envelope “Comments on SRP Application.”

• Fax: (301)427-2590

FOR FURTHER INFORMATION CONTACT: Jackie Wilson, by phone: (404)806-7622; fax: (404)806-9188.

SUPPLEMENTARY INFORMATION: Scientific Research Permits are requested and issued under the authority of the Atlantic Tunas Convention Act (16 U.S.C. 971 et seq.), which regulates fishing activities of tunas, swordfish, and billfish. Regulations at 635.32 govern scientific research activity, exempted fishing, and exempted educational activity with respect to Atlantic HMS. Scientific research is exempted from regulation under the Magnuson-Stevens Fishery Conservation and Management Act (16 U.S.C. 1801 et seq.) (Magnuson-Stevens Act), which regulates fishing activities of sharks.

The Northeast Fisheries Science Center (NEFSC) in Narragansett, Rhode Island has requested a SRP to conduct a research in Federal waters between Delaware and the Gulf of Maine (38°00′ N to 41°00′ N), including the Northeastern U.S. closed area. Previous shark surveys have occurred in this area prior to the implementation of the Northeastern U.S. closed area. This research would include a survey and tagging study of pelagic sharks, including shortfin mako sharks, Isurus oxyrinchus, common and bigeye thresher sharks, Alopia vulpinus and A. superciliosus, blue sharks, Prionace glauca, and porbeagle sharks, Lamna nasus, to obtain abundance and distribution information on these species. In addition, this research would include injecting tagged sharks with tetracycline for age validation studies. Biological samples would be taken from some species of sharks, including samples for age studies, stomach samples for food and feeding information, and reproductive samples. The data collected should support current research on thresher shark life history and blue shark and shortfin mako food habits.

The NEFSC would be conducting its research at historical survey locations. Prior research indicates that these species follow temperature gradients offshore from New Jersey and then move northward towards the Gulf of Maine. The survey would consist of a total of 20 sets over 11 days that proceed from south to north placing sets at the shelf, slope, northwall, and Gulfstream stations at 50 mile intervals coincident with oceanographic canyon stations that were sampled in earlier cruises. Approximately 10 sets will be placed within the Northeastern U.S. closed area. This research would also compare previous catch data with catch rates of these species using 9/0 (#40) Japanese tuna hooks to catch rates using 16/0 non-offset circle hooks, and catch rates and bait retention with 18/0 non-offset barbless circle hooks.

While the NEFSC would be fishing primarily for sharks, the researchers would use Southeast Fisheries Science Center tags to tag any live, incidentally caught Atlantic blue marlin, Makaira nigricans, and white marlin, Tetrapturus albidus. In addition, in collaboration with Dr. Molly Lutcavage from the University of New Hampshire, the NEFSC would deploy pop-up satellite archival tags (PSATs) on any live, incidentally caught bluefin tuna, Thunnus thynnus, and yellowfin tuna, Thunnus albacares. The timing of the survey is seasonally early in terms of billfish availability, and bycatch rates are expected to be very low since surface water temperatures will likely be too cold for billfish and sea turtles on the vast majority of the stations. While bluefin tuna may be incidentally captured if a survey station is located within a warm core ring, the number caught will probably be very low because sets are shorter in duration, the amount of gear set is about half the size of a commercial set, and it is unlikely that there would be more than two stations within rings on this cruise. If the researchers catch five bluefin tuna and/or three loggerhead or leatherback sea turtles on a given set, they will retrieve the gear and move out of the area. These oceanographic conditions have been surveyed in the past, and this sampling opportunity might allow for critical PSAT deployments prior to the inshore migrations of bluefin tuna. These deployments would provide critical data on bluefin tuna behavior during the migratory transition from offshore to inshore feeding grounds.

For each fish caught and tagged, the researchers would record species, estimated length and weight, and GPS location in addition to sea surface temperature, and any other data archived by the PSATs. These data would be used for migration studies on billfish, bluefin tuna, and yellowfin tuna. For all incidental mortalities, data would be collected, such as length, weight, samples for isotope work, otolith and aging samples, blood samples, and gonad samples. However, because the researchers would be targeting shark species, few incidental mortalities of other HMS are expected from these surveys based on previous survey results. Based on past data for the month of June and the estimated fishing effort for the 11 day cruise (20 total sets of 400 hooks per set for a total of 8,000 hooks), the researchers anticipate that they will catch 812 blue sharks, Prionace glauca, 32 sandbar sharks, Carcharhinus plumbeus, 12 shortfin mako sharks, Isurus oxyrhincus, nine swordfish, Xiphias gladius, five thresher sharks, Alopias vulpinus, two dusky sharks, Carcharhinus obscurus, one yellowfin tuna, Thunnus albacares, one porbeagle shark, Lamna nasus, one tiger shark, Galeocerdo cuvier, one bluefin tuna, Thunnus thynnus, and one hammerhead shark, Sphyrna spp.

The research would be conducted from May 30, 2006, through June 9, 2006, throughout the area mentioned above. Research would be conducted onboard the National Oceanographic Atmospheric Administration's (NOAA's) Fisheries Research Vessel, the Delaware II (R-445). Collection of HMS would occur with traditional Yankee pelagic longline gear consisting of a gangion of approximately 6 feet (1.83 m) of 0.125-inch (0.320 cm) diameter stainless wire leader attached to 18 feet (5.49 m) of 0.25-inch (0.640 cm) diameter braided nylon line with a stainless steel line clip at the nylon end. Approximately 133, 16/0 non-offset circle hooks would be alternated with 133, 9/0 (#40) Japanese tuna hooks, and 134, 18/0 non-offset barbless circle hooks for a total of 400 hooks per set. Hooks would be baited with mackerel. The mainline would consist of 0.31 inch diameter braided nylon or monofilament with polyform floats with five fathom droppers attached to the floats would be used at 10 hook intervals to support the longline, and each end of the longline would be marked with a both a polyform float and a 20-foot (6.10 m) staff buoy with radar reflectors, flashers (at night), and weights for stability. The soak time would vary, but would be no more than a couple of hours to minimize incidental mortalities of non-target species.

Sea turtle handling and release equipment and instructions will be onboard the vessel at all times while engaged in this research activity. Additionally, the research team is trained and experienced in sea turtle handling and release techniques. Past research has also associated sea turtle interactions and other bycatch species with certain oceanographic features, such as warm core rings. Because the goal of this research would be to tag and collect information on the abundance and distribution of sharks, the researchers would limit their activity in these areas to reduce potential interactions with sea turtles and other non-targeted species.

Based on NMFS' initial review, NMFS believes that this research would be excluded from the requirement to prepare either an Environmental Assessment or Environmental Impact Statement pursuant to the National Environmental Policy Act because it is of limited size and magnitude and is not expected to have significant effects individually or cumulatively on the environment. As noted above, limited numbers of incidental interactions and/or mortalities are anticipated to occur while conducting this research. While scientific research is not regulated under the Magnuson-Stevens Act, NMFS would track and monitor all sources of mortalities for sharks. Any mortalities of ATCA regulated species (i.e., billfish and tuna) would be counted against the appropriate quotas, and active measures will be taken to minimize interactions and mortalities of these non-target species. Further, all fish tagged would be released alive, with minimal or no post-release mortality anticipated. However, if any HMS die during the collection and/or tagging process, age structures (otoliths), stomachs, blood samples, samples for isotope work, and reproductive tissues would be sampled.

This research may benefit fishery managers and scientists by providing additional data on the importance of the Northeastern U.S. closed area ecosystem in the management and conservation of HMS in the Atlantic Ocean.

The regulations that would prohibit the proposed activities include requirements for permits and fees (50 CFR 635.4), vessel reporting (50 CFR 635.4), size limits (50 CFR 635.20), fishing in a closed area (50 CFR 635.21(c)(i)), hook requirements (50 CFR 635.21(c)(5)(iii)(C)), retention limits for bluefin tuna (50 CFR 635.23), commercial retention limits for sharks and swordfish (50 CFR 635.24), catch and release (50 CFR 635.26), commercial quotas (50 CFR 635.27), closures (50 CFR 635.28), possession at sea and landing (50 CFR 635.30), and VMS (50 CFR 635.69).

Authority: Authority: 16 U.S.C. 971 et seq. and 16 U.S.C. 1801 et seq.

Dated: April 25, 2006.
Alan D. Risenhoover,
Acting Director, Office of Sustainable Fisheries, National Marine Fisheries Service.

[FR Doc. E6-6767 Filed 5-3-06; 8:45 am]

BILLING CODE 3510-22-S